DEPARTMENT OF THE TREASURY

United States Mint

Notification of Citizens Coinage Advisory Committee April 2006 Public Meeting.

Summary: Pursuant to United States Code, Title 31, section 5135(b)(8)(C), the United States Mint announces a Citizens Coinage Advisory Committee (CCAC) public meeting scheduled for April 13, 2006.

Date: April 13, 2006.

Time: 10 a.m. to 12 noon.

Location: The meeting will occur via teleconference. Interested members of the public may attend the meeting at the United States Mint, 801 Ninth Street, NW., Washington, DC, 2nd floor.

Subject: Review proposed design narratives for the reverses of the 2007 First Spouse coins and medals.

Interested persons should call 202-354-7502 for the latest update on meeting time, and location.

Public Law 108-15 established the CCAC to:

• Advise the Secretary of the Treasury on any theme or design proposals relating to circulating coinage, bullion coinage, Congressional gold medals, and national and other medals.

• Advise the Secretary of the Treasury with regard to the events, persons, or places to be commemorated by the issuance of commemorative coins in each of the five calendar years succeeding the year in which a commemorative coin designation is made.

• Make recommendations with respect to the mintage level for any commemorative coin recommended.

FOR FURTHER INFORMATION CONTACT: Cliff Northup, United States Mint Liaison to the CCAC, 801 Ninth Street, NW., Washington, DC 20220; or call 202-354-7200.

Any member of the public interested in submitting matters for the CCAC's consideration is invited to submit them by fax to the following number: 202-756-6830.

Authority: 31 U.S.C. 5135(b)(8)(C).

Dated: April 4, 2006.
David A. Lebryk,
Acting Director, United States Mint.

[FR Doc. 06-3372 Filed 4-6-06; 8:45 am]

BILLING CODE 4810-37-P